DEPARTMENT OF ENERGY

Federal Energy Regulatory Commission

[Project No. 14538-000]

Go With the Flow Hydro Power, LLC; Notice of Preliminary Permit Application Accepted for Filing and Soliciting Comments, Motions To Intervene, and Competing Applications

On July 22, 2013, Go with the Flow Hydro Power, LLC, filed an application for a preliminary permit, pursuant to section 4(f) of the Federal Power Act (FPA), proposing to study the feasibility of the Go with the Flow Hydroelectric Project (project) to be located on the Umatilla River, near the City of Hermiston, Umatilla County, Oregon. The sole purpose of a preliminary permit, if issued, is to grant the permit holder priority to file a license application during the permit term. A preliminary permit does not authorize the permit holder to perform any land-disturbing activities or otherwise enter upon lands or waters owned by others without the owners' express permission.

The proposed project would use the following existing facilities from an abandoned hydroelectric project: (1) A 3.5-foot-high, 120-foot-long concrete diversion weir, (2) a concrete intake structure with trashrack, (3) a 5,350-foot-long earthen power canal, (4) a concrete penstock headworks structure, (5) four 5-foot-diameter, 280-foot-long welded steel penstocks, (6) a 60-foot by 35-foot powerhouse, (7) a 20-foot by 12-foot metal controlhouse, (8) four 300-kilowatt vertical propeller turbine-generators, (9) a 60-foot-wide, 25-foot-long earthen tailrace discharging into the Umatilla River, (10) a substation with transformer providing connection to electric transmission lines operated by Pacific Power and Light Company, and (11) appurtenant facilities. The applicant is also proposing a new fish bypass at the diversion weir, and refurbishing and replacing the fish screens at the intake structure.

Estimated annual generation of the project would be 3 gigawatt-hours. The project would not be located on any federal lands.

Applicant Contact: Mr. Mark Sigl, President, Go with the Flow Hydro Power, LLC, 8021 Firestone Way, Antelope, California 95843; phone: (916) 812-5051.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14538-000.

More information about this project, including a copy of the application, can be viewed or printed on the “eLibrary” link of Commission's Web site at http://www.ferc.gov/docs-filing/elibrary.asp. Enter the docket number (P-14538) in the docket number field to access the document. For assistance, contact FERC Online Support.

Dated: September 16, 2013.
Kimberly D. Bose,
Secretary.

[FR Doc. 2013-23003 Filed 9-20-13; 8:45 am]

BILLING CODE 6717-01-P